DEPARTMENT OF ENERGY

Federal Energy Regulatory Commission

[Project No. 15388-000]

HGE Energy Storage 6, LLC; Notice of Preliminary Permit Application Accepted for Filing and Soliciting Comments, Motions To Intervene, and Competing Applications

On December 27, 2024, HGE Energy Storage 6, LLC (HGE Energy), filed an application for a preliminary permit, pursuant to section 4(f) of the Federal Power Act (FPA), proposing to study the feasibility of the Lake Oroville Pumped Storage Project to be located in Butte County, California. The sole purpose of a preliminary permit, if issued, is to grant the permit holder priority to file a license application during the permit term. A preliminary permit does not authorize the permit holder to perform any land-disturbing activities or otherwise enter upon lands or waters owned by others without the owners' express permission.

The proposed project would consist of the following new facilities: (1) a 30-foot-high, 5,600-foot-long earthen with rubber sheet and asphalt lining upper embankment that would impound a 40-acre upper reservoir with a storage capacity of 4000 acre-feet at a water surface elevation of 2,300 feet above mean sea level (msl); (2) a pressure shaft of undetermined length and diameter made of concrete and steel lined (3) four 3,300-foot-long, 10-foot-diameter steel lined penstocks from the upper reservoir to eight 330-foot-long, 15-foot-diameter turbine penstocks; (4) a 350-foot-long, 75-foot-wide, 100-foot-high and 100-foot below ground concrete powerhouse and substation containing six 210-MW reversible variable speed pump-turbine generators; (5) a 300-foot-long, 250-foot-diameter concrete lined tailrace; (6) a vertical access tunnel 100-feet high and 30-feet in diameter to lead from ground level to the powerhouse; (7) a vertical intake structure leading to the tailrace 100-feet below sea level (8) an 1.3-mile-long, 115-kilovolt transmission line; and (9) appurtenant facilities. The proposed project would have an estimated annual generation of 3,675,000 megawatt-hours.

Applicant Contact: Mr. Wayne Krouse, Manager, HGE Energy Storage 6, LLC, 2901 4th Avenue South, #B 253 Birmingham, AL 35233 email: wayne@hgenergy.com phone: (877)-556-6566.

FERC Contact: Jane Dalgliesh; email: jane.dalgiesh@ferc.gov; phone: (503) 552-2718.

Deadline for filing comments, motions to intervene, competing applications (without notices of intent), or notices of intent to file competing applications: 60 days from the issuance of this notice. Competing applications and notices of intent must meet the requirements of 18 CFR 4.36.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-15388-000.

More information about this project, including a copy of the application, can be viewed or printed on the “eLibrary” link of Commission's website at https://elibrary.ferc.gov/eLibrary/search. Enter the docket number (P-15388) in the docket number field to access the document. For assistance, contact FERC Online Support.

Dated: August 14, 2025.
Debbie-Anne A. Reese,
Secretary.

[FR Doc. 2025-15767 Filed 8-18-25; 8:45 am]

BILLING CODE 6717-01-P